DEPARTMENT OF HEALTH AND HUMAN SERVICES

Centers for Disease Control and Prevention

[Program Announcement 04253]

Strengthening the Capacity of the Government of Rwanda's Treatment and Research for AIDS Center (TRAC) for HIV Surveillance and the Planning, Implementation, Monitoring and Evaluation of HIV/AIDS Clinical Prevention, Treatment and Care Programs; Notice of Intent to Fund Single Eligibility Award

A. Purpose

The Centers for Disease Control and Prevention (CDC) announces the intent to fund fiscal year (FY) 2004 funds for a cooperative agreement program with the Government of Rwanda's Treatment and Research AIDS Center (TRAC) to improve national surveillance capacity and the planning, implementation and evaluation of HIV/AIDS prevention, care and treatment programs, including antiretroviral therapy (ART) to eligible persons living with HIV/AIDS (PLWHA). The Catalog of Federal Domestic Assistance number for this program is 93.941.

B. Eligible Applicant

Assistance will be provided only to the Rwandan government entity Treatment and Research AIDS Center (TRAC).

TRAC is the only appropriate and qualified organization to fulfill the requirements set forth in this announcement because of its unique mandate and demonstrated capacity to successfully coordinate national HIV/AIDS programs. The Minister of State for AIDS and other major epidemics works with TRAC to coordinate the Ministry of Health (MOH) response to HIV/AIDS. Rwanda's TRAC was established in 2001 with a mandate to coordinate all national HIV/AIDS clinical prevention, care and treatment programs; priority was placed on improving the care and treatment of PLWHA, expanding VCT services, PMTCT of HIV, care and treatment for STDs, and epidemiologic surveillance of HIV/AIDS. TRAC is the only Rwandan government institution with this mandate.

TRAC also has the ability to financially and technically oversee the project. TRAC's current structure consists of a PMTCT/VCT unit, a surveillance unit, a STI/HIV care and treatment unit, and an informatics unit. The performance of these units directly impacts national-level decisions for the coordination of services related to HIV/AIDS and other major epidemics.

CDC has successfully worked in partnership with TRAC in the past. In fiscal year 2003, CDC/GAP's substantial financial, technical and logistical support resulted in the development of surveillance capacity at TRAC, culminating in the national dissemination of the first HIV sentinel surveillance results since 1998.

TRAC's unique mandate within the Government of Rwanda, its ability to technically and financially oversee this program, and its history of working successfully with CDC are the basis for TRAC being the only entity eligible for this program announcement.

C. Funding

Approximately $500,000 is available in FY 2004 to fund this award. It is expected that the award will begin on or before September 1, 2004, and will be made for a 12-month budget period within a project period of up to 1 year. Funding estimates may change.

D. Where To Obtain Additional Information

For general comments or questions about this announcement, contact: Technical Information Management, CDC Procurement and Grants Office, 2920 Brandywine Road, Atlanta, GA 30341-4146, Telephone: 770-488-2700.

For technical questions about this program, contact: Valerie Koscelnik, Project Officer, U.S. Embassy, 377 Boulevard de la Revolution, B.P. 28, Kigali, Rwanda, Telephone: 250-57-54-73, E-mail: KoscelnikVX@state.gov.

Dated: July 22, 2004.
William P. Nichols,
Acting Director, Procurement and Grants Office, Centers for Disease Control and Prevention.

[FR Doc. 04-17215 Filed 7-28-04; 8:45 am]

BILLING CODE 4163-18-P